DEPARTMENT OF COMMERCE

International Trade Administration

Notice of Allocation of Tariff Rate Quotas on the Import of Certain Worsted Wool Fabrics for Calendar Year 2002

AGENCY: Department of Commerce, International Trade Administration.

ACTION: Notice of allocation of 2002 worsted wool fabric tariff rate quota.

FOR FURTHER INFORMATION CONTACT: Sergio Botero, Office of Textiles and Apparel, U.S. Department of Commerce, (202) 482-4058.

The Department of Commerce (Department) has determined the allocation for calendar year 2002 of imports of certain worsted wool fabrics under tariff rate quotas established by Title V of the Trade and Development Act of 2000. The companies that are being provided an allocation are listed below.

Background

Title V of the Trade and Development Act of 2000 (The Act) creates two tariff rate quotas, providing for temporary reductions in the import duties on two categories of worsted wool fabrics suitable for use in making suits, suit-type jackets, or trousers. For worsted wool fabric with average fiber diameters greater than 18.5 microns (Harmonized Tariff Schedule of the United States (HTS) heading 9902.51.11), the reduction in duty is limited to 2,500,000 square meters per year. For worsted wool fabric with average fiber diameters of 18.5 microns or less (HTS heading 9902.51.12), the reduction is limited to 1,500,000 square meters per year. The Act requires the President to ensure that such fabrics are fairly allocated to persons (including firms, corporations, or other legal entities) who cut and sew men's and boys' worsted wool suits and suit-like jackets and trousers in the United States and who apply for an allocation based on the amount of such suits cut and sewn during the prior calendar year. Presidential Proclamation 7383, of December 1, 2000, authorized the Secretary of Commerce to allocate the quantity of worsted wool fabric imports under the tariff rate quotas. On January 22, 2001 the Department published regulations establishing procedures for applying for, and determining, such allocations. 66 FR 6459, 15 CFR 335.

On September 7, 2001, the Department published a notice soliciting applications for an allocation of the 2002 tariff rate quotas with a closing date of October 9, 2001. The Department received timely applications for the HTS 9902.51.11 tariff rate quota from 17 firms. The Department received timely applications for the HTS 9902.51.12 tariff rate quota from 16 firms All applicants were determined eligible for an allocation.

Most applicants submitted data on a business confidential basis. As allocations to firms were determined on the basis of this data, the Department considers individual firm allocations to be business confidential.

Three companies' 2002 tariff rate quota allocations were reduced for HTS 9902.51.11. These companies failed to import 95 percent of their 2001 tariff rate quota allocations of this fabric. The total amount of the reduction was 11,036 square meters, which will be allocated to the non-penalized 2002 license holders at a later date this year. One company's 2002 tariff rate quota allocation was reduced for HTS 9902.51.12. This company failed to import 95 percent of its 2001 tariff rate quota allocation of this fabric. The amount of the reduction was 4,903 square meters, which will be allocated to the non-penalized 2002 license holders at a later date this year. The Department determined the appropriate allocation reduction in accordance with CFR 335.

Firms That Received Allocations

1. HTS 9902.51.11, fabrics, of worsted wool, with average fiber diameter greater than 18.5 micron, certified by the importer as suitable for use in making suits, suit-type jackets, or trousers (provided for in subheading 5112.11.60 and 5112.19.95)

Amount allocated: 2,488,964 square meters; 11,036 square meters to be allocated at later date this year.

Companies Receiving Allocation:

Alperin Inc.—Scranton, PA

American Fashion, Inc.—Chula Vista, CA

Bowdon Manufacturing Co., Inc—Bowdon, GA

Calvin Clothing Company, Inc.—Scranton, PA

CK Apparel Corp.—New York, NY

Concorde Apparel Company, L.L.C.—Scranton, PA

Corbin Ltd.—Ashland, KY

Hardwick Clothes Inc.—Cleveland, TN

Hartmarx Corporation—Chicago, IL

Hartz & Company, Inc.—Frederick, MD

Hugo Boss Cleveland, Inc—Cleveland, TN

JA Apparel Corp.—New York, NY

John H. Daniel Co.—Knoxville, TN

Pincus Bros, Inc.—Philadelphia, PA

Sewell Clothing Company, Inc.—Bremen, GA

Southwick Clothing L.L.C.—Lawrence, MA

The Tom James Co.—Franklin, TN

2. HTS 9902.51.12, fabrics, of worsted wool, with average fiber diameter of 18.5 micron or less, all the foregoing certified by the importer as suitable for use in making suits, suit-type jackets, or trousers (provided for in subheading 5112.11.30 and 5112.19.60)

Amount allocated: 1,495,097 square meters; 4903 square meters to be allocated at later date this year.

Companies Receiving Allocation:

American Fashion, Inc.—Chula Vista, CA

Brooks Brothers—New York, NY

Corbin Ltd.—Ashland, KY

Dormeuil Personal Tailoring—New York, NY

Hardwick Clothes Inc.—Cleveland, TN

Hartmarx Corporation—Chicago, IL

Hartz & Company, Inc.—Frederick, MD

Hugo Boss Cleveland, Inc.—Cleveland, TN

JA Apparel Corp.—New York, NY

John H. Daniel Co.—Knoxville, TN

Martin Greenfield—Brooklyn, NY

Pincus Bros, Inc.—Philadelphia, PA

Saint Laurie—New York, NY

Sewell Clothing Company, Inc.—Bremen, GA

Southwick Clothing L.L.C.—Lawrence, MA

The Tom James Co.—Franklin, TN

Dated: January 16, 2002.
D. Michael Hutchinson,
Acting Assistant Secretary for Textiles, Apparel and Consumer Goods Industries for Import Administration.

[FR Doc. 02-1491 Filed 1-17-02; 8:45 am]

BILLING CODE 3510-DR-P